DEPARTMENT OF COMMERCE

Bureau of Industry and Security

15 CFR Part 744

Control Policy: End-User and End-Use Based; Correction

CFR Correction

In Title 15 of the Code of Federal Regulations, Parts 300 to 799, revised as of January 1, 2019, on page 412, in part 744, supplement no. 4, in the table under “AFGHANISTAN”, the entry for Ibrahim Haqqani is correctly revised to read as follows:

Supplement No. 4 to Part 744—Entity List
Country | Entity | License requirement | License review policy | Federal Register citation
* * * * * * *
AFGHANISTAN | * * * * * *
| Ibrahim Haqqani, a.k.a., the following two aliases: —Hajji Sahib; and —Maulawi Haji Ibrahim Haqqani Afghanistan | For all items subject to the EAR. (See § 744.11 of the EAR) | Presumption of denial | 77 FR 25057, 4/27/12.
* * * * * * *

[FR Doc. 2019-27402 Filed 12-17-19; 8:45 am]

BILLING CODE 1301-00-D